DEPARTMENT OF ENERGY

Federal Energy Regulatory Commission

Notice of Filings #1

July 8, 2005.

Take notice that the Commission received the following electric rate filings:

Docket Numbers: ER02-1238-004; ER01-1310-004; EL05-111-000.

Applicants: MPC Generating, LLC.

Description: Progress Energy Service Company, LLC requests that FERC exclude MPC Generating LLC and Walter County Power, LLC from the section 206 proceeding re filing updates by 2/28/06 under ER02-1238 et al.

Filed Date: 06/21/2005.

Accession Number: 20050701-0009.

Comment Date: 5 p.m. Eastern Time on Tuesday, July 18, 2005.

Docket Numbers: ER05-1169-000.

Applicants: Central Maine Power Company.

Description: Central Maine Power Company submits its 6/30/05 informational filing regarding annual update to formula rates in effect as of 6/1/05.

Filed Date: 06/30/2005.

Accession Number: 20050701-0158.

Comment Date: 5 p.m. Eastern Time on Thursday, July 21, 2005.

Docket Numbers: ER05-1170-000.

Applicants: AMVEST Power, Inc.

Description: AMVEST Power, Inc. submits notice of cancellation of its market-based rate tariff currently on file (Rate Schedule 1).

Filed Date: 06/30/2005.

Accession Number: 20050701-0159.

Comment Date: 5 p.m. Eastern Time on Thursday, July 21, 2005.

Docket Numbers: ER05-1171-000.

Applicants: ISO New England Inc.

Description: ISO New England, Inc. submits revised Code of Conduct and Ethics Policy.

Filed Date: 06/30/2005.

Accession Number: 20050701-0160.

Comment Date: 5 p.m. Eastern Time on Thursday, July 21, 2005.

Docket Numbers: ER05-1172-000.

Applicants: Southwest Power Pool, Inc.

Description: Southwest Power Pool, Inc. submits executed service agreement for network integration transmission service and an executed Network Operating Agreement, Service Agreement No. 1142, with Kansas Electric Power Cooperative, Inc.

Filed Date: 06/30/2005.

Accession Number: 20050701-0161.

Comment Date: 5 p.m. Eastern Time on Thursday, July 21, 2005.

Docket Numbers: ER05-1173-000.

Applicants: Southwest Power Pool, Inc.

Description: Southwest Power Pool, Inc. submits an executed service agreement for Network Integration Transmission Service and a Network Operating Agreement, Service Agreement No. 1141, with Kansas Electric Power Cooperative, Inc.

Filed Date: 06/30/2005.

Accession Number: 20050705-0121.

Comment Date: 5 p.m. Eastern Time on Thursday, July 21, 2005.

Docket Numbers: ER05-1174-000.

Applicants: Desert Southwest Power, LLC.

Description: Desert Southwest Power, LLC submits a notice of cancellation of its market-based rate tariff—FERC Electric Tariff, Original Volume 1, effective 6/6/05.

Filed Date: 06/30/2005.

Accession Number: 20050705-0122.

Comment Date: 5 p.m. Eastern Time on Thursday, July 21, 2005.

Docket Numbers: ER05-1175-000.

Applicants: NorthWestern Corporation d/b/a NorthWestern Energy

Description: NorthWestern Corporation d/b/a NorthWestern Energy submits an amendment to the firm point-to-point transmission service agreement 18-SD under NorthWestern Energy's open access transmission tariff between the City of Miller, South Dakota and Northwestern Energy.

Filed Date: 06/30/2005.

Accession Number: 20050705-0123.

Comment Date: 5 p.m. eastern time on Thursday, July 21, 2005.

Docket Numbers: ER05-1176-000; ER05-1177-000.

Applicants: Adirondack Hydro Development Corporation; Enserco Energy Inc.

Description: Black Hills Corporation, on behalf of Adirondack Hydro Development Corporation (AHDC) and Enserco Energy Inc. (Enserco), submits notices of cancellation of AHDC's and Enserco's Market-Based Rate Wholesale Power Sales Tariffs.

Filed Date: 06/30/2005.

Accession Number: 20050705-0124.

Comment Date: 5 p.m. eastern time on Thursday, July 21, 2005.

Docket Numbers: ER05-1178-000.

Applicants: Gila River Power, L.P.

Description: Gila River Power, LP submits a notice of succession to notify the Commission that effective 6/1/05 Gila River has succeeded to the FERC Electric Tariff Original Volume No. 1 of Panda Gila River LP.

Filed Date: 06/30/2005.

Accession Number: 20050705-0125.

Comment Date: 5 p.m. eastern time on Thursday, July 21, 2005.

Docket Numbers: ER05-1179-000.

Applicants: Berkshire Power Company, LLC.

Description: Berkshire Power Company, LLC submits an unexecuted cost-of-service agreement with ISO New England, Inc.

Filed Date: 06/30/2005.

Accession Number: 20050705-0126.

Comment Date: 5 p.m. eastern time on Thursday, July 21, 2005.

Docket Numbers: ER05-1180-000.

Applicants: Aquila, Inc.

Description: Aquila, Inc. on behalf of three of its operating divisions, Aquila Networks—MPS Networks—WPK & Aquila Networks—LP informs that it has adopted NERC's revised transmission loading relief procedures.

Filed Date: 06/30/2005.

Accession Number: 20050705-0114.

Comment Date: 5 p.m. eastern time on Thursday, July 21, 2005.

Docket Numbers: ER05-722-003.

Applicants: Carolina Power & Light Company d/b/a Progress Energy Carolinas, Inc.

Description: Carolina Power & Light Company d/b/a Progress Energy Carolinas, Inc. amends its compliance filing to replace the unexecuted version of the revised power supply agreement pursuant to Order 614 etc., effective 5/23/05.

Filed Date: 06/30/2005.

Accession Number: 20050701-0162.

Comment Date: 5 p.m. eastern time on Thursday, July 21, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please email FERCOnlineSupport@ferc.gov or call (866) 208-3676 (toll free). For TTY, call (202) 502-8659.

Magalie R. Salas,
Secretary.

[FR Doc. E5-3725 Filed 7-13-05; 8:45 am]

BILLING CODE 6717-01-P